DEPARTMENT OF AGRIGULTURE

Agricultural Research Service

Availability of the Final Environmental Assessment and a Finding of No Significant Impact for the U.S. Department of Agriculture—Agricultural Research Service Brooksville, Florida Land Transfer to Florida Agricultural and Mechanical University

AGENCY: Agricultural Research Service, USDA.

ACTION: Notice.

SUMMARY: Notice is hereby given that the U.S. Department of Agriculture (USDA) Agricultural Research Service (ARS) made a Finding of No Significant Impact (FONSI) for the transfer of land and facilities from USDA-ARS Subtropical Agricultural Research Station (STARS) in Brooksville, Florida, to the Florida Agricultural and Mechanical University (FAMU) for the purpose of agricultural research. The FONSI document is based on impact analysis documented in the Environmental Assessment (EA) that was available for public comment beginning February 25 through April 1, 2015, and finalized on June 30, 2015.

FOR FURTHER INFORMATION CONTACT: Cal Mather, Environmental Protection Specialist, USDA-ARS-SHEMB, NCAUR, 1815 North University Street, Room 2060, Peoria, Illinois 61604, telephone: 309-681-6608, or email: cal.mather@ars.usda.gov. Copies of the Final EA may also be available for public viewing during normal business hours at the following locations:

• Samuel H. Coleman Memorial Library (FAMU), 525 Orr Drive, Tallahassee, Florida 32307

• Istachatta Library Station, 16246 Lingle Road, Brooksville, Florida 34601

• East Hernando Branch Library, 6457 Windmere Road, Brooksville, Florida 34602

• Spring Hill Branch Library, 9220 Spring Hill Drive, Spring Hill, Florida 34608

• West Hernando Branch Library, 6335 Blackbird Avenue, Brooksville, Florida 34613

• Main Library/Brooksville, 238 Howell Avenue, Brooksville, Florida 34601

SUPPLEMENTARY INFORMATION: In accordance with the National Environmental Policy Act (NEPA) of 1969, as amended, an EA was prepared to evaluate the proposed transfer of approximately 3,800 acres of land and facilities at the USDA-ARS STARS in Brooksville, Florida, to FAMU. The USDA-ARS signed a FONSI on June 30, 2015, based on the Final EA.

The Final EA evaluated the proposed approximately 3,800 acres of land and facilities located on four separate properties at the USDA-ARS STARS in Brooksville, Florida to FAMU. The Final EA also evaluated future proposed uses of land and facilities to be transferred, according to FAMU's proposed Plan of Work. In accordance with the March 1, 2014, Memorandum of Understanding executed between the United States Government, represented by the Secretary, and the University Board of Trustees, upon transfer to FAMU, the land will be used for agricultural and natural resources research for a period of no less than 25 years, supporting the 1890 land grant university mission, promoting education and community collaboration, and establishing a Beginning Farmers and Ranchers Program at the Property. FAMU would assume responsibility for management and maintenance of the constructed facilities and land to be conveyed from USDA-ARS.

The USDA-ARS STARS was one of 10 units designated for closure in the fiscal year 2012 Presidential budget. The proposed transfer of land and facilities from USDA-ARS to FAMU would be in accordance with Section 732 of Public Law (P.L.) 112-55, as extended under P.L. 113-76, 2014 Consolidated Appropriations Act, which authorizes the Secretary to convey, with or without consideration, certain USDA-ARS facilities to entities that are eligible to receive real property, including: Land-grant colleges and universities (as defined in Section 1404(13) of the National Agricultural Research, Extension, and Teaching Policy Act of 1977); 1994 Institutions (as defined in Section 532 of the Equity in Educational Land-Grant Status Act of 1994); and Hispanic-serving agricultural colleges and universities (as defined in Section 1404(10) of the National Agricultural Research, Extension, and Teaching Policy Act of 1977). Under P.L. 113-76, the conveyance authority expires on September 30, 2015, and all conveyances must be completed by that date.

Two alternatives are analyzed in the Final EA, the Proposed Action Alternative and the No Action Alternative. The Final EA addresses potential impacts of these alternatives on the natural and human environment.

• Proposed Action Alternative—Under the proposed action alternative, the Secretary would transfer the USDA-ARS land and facilities to FAMU, and FAMU, its tenant(s), and/or its partner(s) would implement the Reasonably Foreseeable Future Actions described in the Final EA upon transfer of the land and facilities. The land would be used for agricultural and natural resources research for a period of no less than 25 years.

• No Action Alternative—Under the no action alternative, the USDA-ARS land and facilities would not be transferred to FAMU. It is assumed that under the no action alternative, USDA-ARS would have no resources to operate and/or maintain the properties and that the properties would fall into a state of disrepair.

On February 25, 2015, USDA-ARS published a notice of availability (NOA) of the Draft EA and notified the public of a 30-day public review and comment period, scheduled to close on March 26, 2015. The February 25, 2015, NOA was published in the two major newspapers serving the Brooksville/Hernando County, Florida area: The Tampa Bay Times and The Tampa Tribune. The Tampa Tribune NOA was published in both English and Spanish. On March 2, 2015, USDA-ARS published a NOA of the Draft EA in the Federal Register (FR) (80 FR 11155, March 2, 2015). To make the FR NOA public comment period concurrent with the local newspapers, the comment period was extended an additional 6 days in notices published in the same newspapers and closed on April 1, 2015, instead of the originally scheduled March 26, 2015.

The USDA-ARS used and coordinated the NEPA commenting process to satisfy the public involvement process for Section 106 of the National Historic Preservation Act (16 U.S.C. 470(f) as provided for in 36 CFR 800.2(d)(3)). During the public comment period, USDA-ARS received two public comments regarding the transfer of lands and facilities from USDA-ARS to FAMU. None of the public comments received identified any substantial evidence regarding significant environmental impacts resulting from the proposed land transfer.

Based on its analysis of the Final EA for the property transfer, USDA-ARS has found that the transfer of properties could have adverse effects on previously identified historic properties. USDA-ARS, Florida Division of Historical Resources (FLDHR) and FAMU have signed a Memorandum of Agreement (MOA) to address the adverse effects from the proposed transfer and to avoid, minimize, or mitigate the adverse effects to any previously identified historic properties. The MOA also stipulates a Programmatic Agreement (PA) between FAMU and FLDHR for the long-term management of historic properties on the conveyed parcels; the PA will establish a consultation process that mirrors Section 106 and continue consultations with the FLDHR and the Seminole Tribe of Florida on Native American sites located on the properties. With the implementation of the MOA to address adverse effects on historic properties, there would be no significant impact to the environment from transferring approximately 3,800 acres of land and facilities at the USDA-ARS STARS in Brooksville, Florida, to the Board of Trustees of the Florida Agricultural and Mechanical University, for use by FAMU. Therefore, USDA-ARS will not prepare an Environmental Impact Statement for this proposed action.

Dated: July 13, 2015.
Chavonda Jacobs-Young,
Administrator, Agricultural Research Service.

[FR Doc. 2015-17912 Filed 7-20-15; 8:45 am]

BILLING CODE 3410-03-P